DEPARTMENT OF VETERANS AFFAIRS

38 CFR Part 61

RIN 2900-AL30

VA Homeless Providers Grant and Per Diem Program; Correction

AGENCY: Department of Veterans Affairs.

ACTION: Interim final rule; correction.

SUMMARY: In a document published in the Federal Register on March 19, 2003 (68 FR 13590), we amended the regulations concerning the VA Homeless Providers Grant and Per Diem Program primarily to implement the provisions of the Homeless Veterans Comprehensive Assistance Act of 2001. The document contains typographical errors in § 61.33 “Payment of per diem.” This document corrects those typographical errors.

DATES: Effective Date: This correction is effective March 19, 2003.

FOR FURTHER INFORMATION CONTACT: Roger Casey, VA Homeless Providers Grant and Per Diem Program, Mental Health Strategic Health Care Group (116E), Department of Veterans Affairs, 810 Vermont Avenue, NW., Washington, DC 20420; (877) 332-0334. (This is a toll-free number.)

SUPPLEMENTARY INFORMATION: In rule FR Doc. 03-6329, published on March 19, 2003 (68 FR 13590), make the following corrections:

§ 61.33 [Corrected]

On page 13600, in the first column, in paragraph (d)(2), “(f)(1)(i)” is corrected to read “(d)(1)(i)” and “(f)(1)(ii)” is corrected to read “(d)(1)(ii)''.

Approved: June 3, 2003.
Robert C. McFetridge,
Director, Regulations Management.

[FR Doc. 03-14416 Filed 6-6-03; 8:45 am]

BILLING CODE 8320-01-P